DEPARTMENT OF TRANSPORTATION

Federal Aviation Administration

14 CFR Part 39

[Docket No. FAA-2010-1152; Directorate Identifier 2009-CE-026-AD]

RIN 2120-AA64

Airworthiness Directives; DORNIER LUFTFAHRT GmbH Models Dornier 228-100, Dornier 228-101, Dornier 228-200, Dornier 228-201, Dornier 228-202, and Dornier 228-212 Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

The TC Holder received from operators, whose fleets are operated in demanding operating-conditions and with very frequent Short Take-Off and Landing (STOL) operations, reports of cracks located in the web of fuselage frame 19. On 05 February 2007, EASA issued Airworthiness Directive (AD) 2007-0028 which mandated Alert Service Bulletin (ASB) 228-266 and required an inspection of the frame 19 on all Dornier 228 aeroplanes. In addition, the TC Holder also initiated a flight-test campaign including strain measurements as well as finite element modelling and fatigue analyses to better understand the stress distribution onto the frame 19 and the associated structural components.

The results of these investigations confirmed that STOL operations diminish extensively the fatigue life of the frame 19.

Fuselage frame 19 supports the rear attachment of the Main Landing Gear (MLG). This condition, if not corrected, could cause rupture of frame 19, leading to subsequent collapse of a MLG.

The proposed AD would require actions that are intended to address the unsafe condition described in the MCAI.

DATES: We must receive comments on this proposed AD by January 3, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact RUAG Aerospace Services GmbH, Dornier 228 Customer Support, P.O. Box 1253, 82231 Wessling, Germany; telephone: + 49 (0) 8153-302280; fax: + 49 (0) 8153-303030. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2010-1152; Directorate Identifier 2009-CE-026-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 11, 2007, we issued AD 2007-11-03, Amendment 39-15060 (72 FR 28591; May 22, 2007). That AD required actions intended to address an unsafe condition on the products listed above.

Since we issued AD 2007-11-03, the type certificate holder initiated a series of flight-test analyses to include strain measurements as well as finite element modeling and fatigue analyses to better understand the stress distribution onto frame 19 and the associated structural components. The analyses' findings confirmed that extreme short take-off and landing operations diminish extensively the fatigue life of frame 19. Consequently, a structure significant item inspection has been added.

The European Aviation Safety Agency (EASA), which is the Technical Agent for the Member States of the European Community, has issued AD No. 2009-0085, dated April 14, 2009 (referred to after this as “the MCAI”), to correct an unsafe condition for the specified products. The MCAI states:

The TC Holder received from operators, whose fleets are operated in demanding operating-conditions and with very frequent Short Take-Off and Landing (STOL) operations, reports of cracks located in the web of fuselage frame 19. On 05 February 2007, EASA issued Airworthiness Directive (AD) 2007-0028 which mandated Alert Service Bulletin (ASB) 228-266 and required an inspection of the frame 19 on all Dornier 228 aeroplanes. In addition, the TC Holder also initiated a flight-test campaign including strain measurements as well as finite element modelling and fatigue analyses to better understand the stress distribution onto the frame 19 and the associated structural components.

The results of these investigations confirmed that STOL operations diminish extensively the fatigue life of the frame 19.

Fuselage frame 19 supports the rear attachment of the Main Landing Gear (MLG). This condition, if not corrected, could cause rupture of frame 19, leading to subsequent collapse of a MLG.

For the reasons described above, this new AD requires installation of reinforcements and butt straps on frame 19 at the lower part of the fuselage for aeroplanes used in operations where this frame may be subject to high stress and recurring inspections of that frame for all aeroplanes.

You may obtain further information by examining the MCAI in the AD docket.

Relevant Service Information

DORNIER LUFTFAHRT GmbH has issued:

• RUAG Alert Service Bulletin No. ASB-228-266, dated December 1, 2006; and

• Dornier 228 Time Limits/Maintenance Checks Manual, Temporary Revision No. 05-27, dated August 4, 2008.

The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 17 products of U.S. registry. We also estimate that it would take about 6 work-hours per product to comply with the basic requirements of this proposed AD. The average labor rate is $85 per work-hour. Required parts would cost about $0 per product.

Based on these figures, we estimate the cost of the proposed AD on U.S. operators to be $8,670, or $510 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15060 (72 FR 28591; May 22, 2007), and adding the following new AD:

DORNIER LUFTFAHRT GmbH: Docket No. FAA-2010-1152; Directorate Identifier 2009-CE-026-AD.

Comments Due Date

(a) We must receive comments by January 3, 2011.

Affected ADs

(b) This AD supersedes AD 2007-11-03, Amendment 39-15060.

Applicability

(c) This AD applies to DORNIER LUFTFAHRT GmbH Model Dornier 228-100, Dornier 228-101, Dornier 228-200, Dornier 228-201, Dornier 228-202, and Dornier 228-212 airplanes, all serial numbers, that are certificated in any category.

Subject

(d) Air Transport Association of America (ATA) Code 53: Fuselage.

Reason

(e) The mandatory continuing airworthiness information (MCAI) states:

The TC Holder received from operators, whose fleets are operated in demanding operating-conditions and with very frequent Short Take-Off and Landing (STOL) operations, reports of cracks located in the web of fuselage frame 19. On 05 February 2007, EASA issued Airworthiness Directive (AD) 2007-0028 which mandated Alert Service Bulletin (ASB) 228-266 and required an inspection of the frame 19 on all Dornier 228 aeroplanes. In addition, the TC Holder also initiated a flight-test campaign including strain measurements as well as finite element modelling and fatigue analyses to better understand the stress distribution onto the frame 19 and the associated structural components.

The results of these investigations confirmed that STOL operations diminish extensively the fatigue life of the frame 19.

Fuselage frame 19 supports the rear attachment of the Main Landing Gear (MLG). This condition, if not corrected, could cause rupture of frame 19, leading to subsequent collapse of a MLG.

For the reasons described above, this new AD requires installation of reinforcements and butt straps on frame 19 at the lower part of the fuselage for aeroplanes used in operations where this frame may be subject to high stress and recurring inspections of that frame for all aeroplanes.

Actions and Compliance

(f) Unless already done, do the following actions:

(1) For all airplanes, within 25 hours time-in-service (TIS) after June 26, 2007 (the effective date of AD 2007-11-03), visually inspect the affected fuselage frame 19 using the instructions in Dornier 228 RUAG Alert Service Bulletin No. ASB-228-266, dated December 1, 2006.

(2) If any crack is found during the inspection required in paragraph (f)(1) of this AD, before further flight, contact RUAG Aerospace Services GmbH, Dornier 228 Customer Support, P.O. Box 1253, 82231 Wessling, Germany; telephone: +49-(0)8153-30-2280; fax: +49-(0)8153-30-3030; e-mail: customersupport.dornier228@ruag.com for FAA-approved repair instructions and incorporate the repair on the airplane.

(3) After accomplishment of paragraph (f)(1) or (f)(2) of this AD, as applicable, repetitively thereafter do Structural Significant Item (SSI) Task No. 53.37 of Structure Inspection Program of Dornier 228 Time Limits/Maintenance Checks Manual, Temporary Revision No. 05-27, dated August 4, 2008, at intervals not to exceed 2,400 landings or 72 months, whichever occurs first.

(g) If the number of landings is unknown, calculate the compliance times of landings in this AD by using hours TIS. Multiply the number of hours TIS by 0.8 to come up with the number of landings. For the purpose of this AD:

(1) 800 landings equals 1,000 hours TIS; and

(2) 1,600 landings equals 2,000 hours TIS.

FAA AD Differences

Note: This AD differs from the MCAI and/or service information as follows:

(1) The MCAI requires different compliance times for airplanes operated in different conditions. The FAA is not able to enforce compliance times based on airplane operations since there is no way of determining the amount of operations in different conditions. To ensure the unsafe condition is addressed adequately and timely, we are requiring the inspection for all airplanes following a guideline combining number of landings and life limits.

(2) The service information allows flight with known cracks provided they do not exceed a certain limit. FAA policy does not allow flight with cracks in primary structure. Since the fuselage is considered primary structure, we are mandating repair before further flight after any crack is found.

Other FAA AD Provisions

(h) The following provisions also apply to this AD:

(1) Alternative Methods of Compliance (AMOCs): The Manager, Standards Office, FAA, has the authority to approve AMOCs for this AD, if requested using the procedures found in 14 CFR 39.19. Send information to Attn: Greg Davison, Glider Program Manager, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(i) Refer to MCAI European Aviation Safety Agency (EASA) AD No.: 2009-0085, dated April 14, 2009; RUAG Alert Service Bulletin No. ASB-228-266, dated December 1, 2006; and Dornier 228 Time Limits/Maintenance Checks Manual, Temporary Revision No. 05-27, dated August 4, 2008, for related information. For service information related to this AD, contact RUAG Aerospace Services GmbH, Dornier 228 Customer Support, P.O. Box 1253, 82231 Wessling, Germany; telephone: + 49 (0) 8153-302280; fax: + 49 (0) 8153-303030. You may review copies of the referenced service information at the FAA, Small Airplane Directorate, 901 Locust, Kansas City, Missouri 64106. For information on the availability of this material at the FAA, call 816-329-4148.

Issued in Kansas City, Missouri, on November 10, 2010.
Earl Lawrence,
Manager, Small Airplane Directorate, Aircraft Certification Service.

[FR Doc. 2010-29110 Filed 11-17-10; 8:45 am]

BILLING CODE 4910-13-P